DEPARTMENT OF THE INTERIOR

Bureau of Land Management

[LLCO-921000-L13200000-EL0000-LVELC10CC770; COC-74219]

Notice of Correction to Notice of Availability of the Environmental Assessment and Notice of Public Hearing for the Sage Creek Holdings, LLC, Federal Coal Lease Application, COC-74219

AGENCY: Bureau of Land Management, Interior.

ACTION: Notice of Correction.

SUMMARY: The Bureau of Land Management (BLM) is correcting the Notice of Availability of the Environmental Assessment (EA) and Notice of Public Hearing for the Sage Creek Holdings, LLC, Federal Coal Lease Application, COC-74219 published in the Federal Register on August 13, 2010 [75 FR 49512]. The BLM incorrectly stated that the EA was complete and available for release. The BLM subsequently determined that additional information should have been included in the cumulative impact section of the EA. The BLM will be issuing a revised EA, which will be available for a 30-day comment period upon completion. After the end of the comment period, the BLM will hold a public hearing on the EA, the fair market value and the maximum economic recovery of the proposed leased tract.

FOR FURTHER INFORMATION CONTACT: Kurt M. Barton, Land Law Examiner, 2850 Youngfield Street, Lakewood, CO 80215 at (303) 239-3714, Kurt_Barton@blm.gov, or Jennifer Maiolo, Mining Engineer, 455 Emerson Street, Craig, CO 81625 at 970-826-5077, Jennifer_Maiolo@blm.gov.

Helen M. Hankins,
State Director.

[FR Doc. 2010-29864 Filed 11-26-10; 8:45 am]

BILLING CODE 4310-JB-P